COMMITTEE FOR PURCHASE FROM PEOPLE WHO ARE BLIND OR SEVERELY DISABLED

Procurement List: Additions and Deletion

AGENCY: Committee for Purchase From People Who Are Blind or Severely Disabled.

ACTION: Additions to and deletion from Procurement List.

SUMMARY: This action adds to the Procurement List products and services to be furnished by nonprofit agencies employing persons who are blind or have other severe disabilities, and deletes from the Procurement List a service previously furnished by such agencies.

DATES: Effective Date: 9/21/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 6/19/2009 (74 FR 29187-29189) and 6/26/2009 (74 FR 30531-30532), the Committee for Purchase From People Who Are Blind or Severely Disabled published notices of proposed additions and deletion to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7510-00-NIB-0877—Binder, 3 D-Ring, 100% Recycled 1” Black

NSN: 7510-00-NIB-0879—Binder, 3 D-Ring, 100% Recycled 2” Black

NSN: 7510-00-NIB-0880—Binder, 3 D-Ring, 100% Recycled 3” Black

NSN: 7510-00-NIB-0885—Binder, 3 D-Ring, 100% Recycled 1” Dark Green

NSN: 7510-00-NIB-0887—Binder, 3 D-Ring, 100% Recycled 2” Dark Green

NSN: 7510-00-NIB-0888—Binder, 3 D-Ring, 100% Recycled 3” Dark Green

Coverage: A-List for the total Government requirement as aggregated by the General Services Administration.

NSN: 7510-00-NIB-0878—Binder, 3 D-Ring, 100% Recycled 1.5” Black

NSN: 7510-00-NIB-0881—Binder, 3 D-Ring, 100% Recycled 1” Blue

NSN: 7510-00-NIB-0882—Binder, 3 D-Ring, 100% Recycled 1.5” Blue

NSN: 7510-00-NIB-0883—Binder, 3 D-Ring, 100% Recycled 2” Blue

NSN: 7510-00-NIB-0884—Binder, 3 D-Ring, 100% Recycled 3” Blue

NSN: 7510-00-NIB-0886—Binder, 3 D-Ring, 100% Recycled 1.5” Dark Green

Coverage: B-List for the broad Government requirement as aggregated by the General Services Administration.

NPA: South Texas Lighthouse for the Blind, Corpus Christi, TX

Contracting Activity: Federal Acquisition Service, GSA/FSS OFC SUP CTR—Paper Products, New York, NY.

NSN: 6545-00-NIB-0088—Kit, Ambulance

NPA: Bosma Industries for the Blind, Inc., Indianapolis, IN

Contracting Activity: VETERANS AFFAIRS, DEPARTMENT OF, NAC, HINES, IL.

Coverage: C-List for the total Department of Veterans Affairs requirement.

NSN: 6545-00-NIB-0091—Accelerate-OR JB Kit

NSN: 6545-00-NIB-0090—Accelerate-OR A Kit

NSN: 6545-00-NIB-0089—Accelerate-OR M Kit

NSN: 6545-00-NIB-0074—Accelerate-OR R Kit

NPA: Bosma Industries for the Blind, Inc., Indianapolis, IN

Contracting Activity: VETERANS AFFAIRS, DEPARTMENT OF, NAC, HINES, IL.

Coverage: C-List for the total Department of Veterans Affairs requirement.

NSN: 7510-00-L98-0032—Tape, Pressure Sensitive, Package Sealing 110yd

NSN: 7510-00-L98-0033—Tape, Pressure Sensitive, Package Sealing 110yd

NSN: 7510-00-L98-0037—Tape, Pressure Sensitive, Package Sealing 110yd

NPA: Cincinnati Association for the Blind, Cincinnati, OH

Contracting Activity: Defense Logistics Agency, Defense Distribution Center, New Cumberland, PA.

Coverage: C-list for the total Defense Logistics Agency requirement.

NSN: 7530-01-418-1314—Folder, File, Classification

NPA: The Clovernook Center for the Blind, Cincinnati, OH

Contracting Activity: FEDERAL ACQUISITION SERVICE, GSA/FSS OFC SUP CTR—PAPER PRODUCTS, NEW YORK, NY.

Coverage: A-List for the total Government requirement as aggregated by the General Services Administration.

Services:

Service Type/Location: Acquisition Support Services, DCMA Headquarters, 6350 Walker Lane, Alexandria, VA.

NPA: Virginia Industries for the Blind, Charlottesville, VA.

Contracting Activity: Defense Contract Management Agency (DCMA), Alexandria, VA.

Service Type/Location: Grounds Maintenance Services, US Army Reserve Center at Perimeter Park, 7077 Perimeter Park Dr, Houston, TX.

NPA: On Our Own Services, Inc., Houston, TX.

Contracting Activity: Dept. of the Army, XR W6BB ACA Presidio of Monterey, CA.

Service Type/Location: Janitorial Services, Coast Guard Island, Alameda, CA.

NPA: Calidad Industries, Inc., Oakland, CA.

Contracting Activity: U.S. Coast Guard, MLC PacifiC (VPL), Alameda, CA.

Service Type/Location: Switchboard Services, Minot Air Force Base, 211 Missile Ave., Minot AFB, ND.

NPA: MVW Services, Inc., Minot, ND.

Contracting Activity: DEPT OF THE AIR FORCE, FA4528 5 CONS LGC, MINOT AFB, ND.

Deletion

On 6/26/2009 (74 FR 30531-30532), the Committee for Purchase From People Who Are Blind or Severely Disabled published notice of proposed deletion from the Procurement List.

After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service:

Service Type/Location: Janitorial/Custodial, U.S. Army Reserve Center, 950 New Castle Road, Farrell, PA.

NPA: Unknown (No Performing Agency).

Contracting Activity: Dept of the Army, XR W40M NATL Region Contract OFC, Washington, DC.

Barry S. Lineback,
Director, Business Operations.

[FR Doc. E9-20115 Filed 8-20-09; 8:45 am]

BILLING CODE 6353-01-P